DEPARTMENT OF HEALTH AND HUMAN SERVICES

Administration for Children and Families

Office of Community Services; CSBG T/TA Program Earned Income Tax Credit (EITC) and Other Asset Formation Opportunities

Announcement Type: Initial.

Funding Opportunity Number: HHS-2005-ACF-OCS-ET-0086.

CFDA Number: 93.570.

Due Date for Applications: Application is due June 20, 2005.

Executive Summary: The Office of Community Services (OCS) within the Administration for Children and Families (ACF) announces that competing applications will be accepted for a new grant pursuant to the Secretary's authority under section 674(b) of the Community Services Block Grant (CSBG) Act, as amended, by the Community Opportunities, Accountability, and Training and Educational Services (COATES) Human Services Reauthorization Act of 1998, (Pub. L. 105-285).

The proposed grant will fund up to 10 capacity-building collaborations that create or expand asset formation and financial literacy services offered by eligible entities funded under the Community Services Block Grant (CSBG) Program in support of national community action Goal 1 (“Low Income People Become More Self-sufficient”).

I. Funding Opportunity Description

The Office of Community Services (OCS) within the Administration for Children and Families (ACF) announces that competing applications will be accepted for a new grant pursuant to the Secretary's authority under section 674(b) of the Community Services Block Grant (CSBG) Act, as amended, by the Community Opportunities, Accountability, and Training and Educational Services (COATES) Human Services Reauthorization Act of 1998 (Pub. L. 105-285).

The proposed grant will fund up to 10 capacity-building collaborations that create or expand asset formation and financial literacy services offered by eligible entities funded under the Community Services Block Grant (CSBG) Program in support of national community action Goal 1 (“Low Income People Become More Self-sufficient”).

Priority Area

Community Action Goal 1 “Low Income People Become More Self-sufficient”

1. Description: OCS is committed to promoting and funding projects that use asset formation financial strategies to increase disposable earned income in low-income households and to help direct the use of that income toward asset formation. We view such strategies as viable and innovative approaches to empowering low-income individuals and families to become more self-sufficient and self-reliant. As part of an OCS initiative, we are forming partnerships and encouraging the creation or strengthening of partnerships aimed at the increasing financial education literacy and asset formation of low-wage earning households.

The Earned Income Tax Credit (EITC) is a refundable Federal tax credit designed to encourage employment in low-income families and to offset the effects of Medicare and Social Security payroll taxes on working-poor families. EITC is widely viewed as a key support in welfare-to-work and asset-building strategies. EITC is regarded not only as an income supplement to meet immediate expenses, but also as a resource that might be directed toward asset-building strategies. Low-income families can be assisted to use the credit to accrue wealth, achieve economic self-sufficiency, and break the cycle of poverty.

Up to 30 percent of low-income families do not have a checking or savings account with a financial institution, have poor financial management skills and/or credit record, and need assistance with asset-building strategies; therefore, finding a way to link the EITC to affordable banking services, financial literacy, and savings and asset-building options is critical. According to recent studies by the Government Accounting Office, a substantial number of eligible individuals and families fail to claim the EITC. OCS seeks to lower the number of eligible households entitled to, but not receiving, this benefit. OCS also seeks to expand the use of the credit as an asset-building resource.

OCS seeks to fund formal collaboration projects that use the EITC to create or expand asset formation and financial literacy services offered by eligible entities funded under the Community Services Block Grant (CSBG) Program. Funds will be awarded to provide capacity-building assistance that enables local, state or regional CSBG networks to plan, establish, improve or expand the use of EITC outreach and free tax preparation services to provide asset formation and financial service opportunities for eligible individuals and families. These projects should be designed to include EITC outreach, free tax preparation services and financial literacy/asset formation strategies to enable low-income families and individuals to make wiser financial decisions, build financial resources and help eligible clients take advantage of asset formation opportunities, that ultimately help the community thrive and become more economically stable.

Formal State CSBG Lead Agencies and State Community Action Agency Association (CAA) partnerships are especially encouraged. OCS realizes that CSBG service providers will be most effective in helping low-income individuals and families increase assets and financial literacy when they partner with others in the community. Therefore, applications that show collaborations with other community-based organizations and institutions are also strongly encouraged.

Funds will be awarded to provide capacity-building assistance that enables local and regional CSBG networks to plan, establish, improve or expand asset formation and financial service opportunities for eligible individuals and families. These projects should be designed to help low-wage earners, at or near the poverty level, become more astute in areas such as money management and other financial services. The projects must offer, or plan to offer, services that help eligible clients take advantage of asset formation opportunities, increase their disposable income, build financial resources and enable them to make wiser financial decisions that ultimately help the community thrive and become more economically stable.

At a minimum, all projects funded under this area must demonstrate proof that they have managed and operated an established Earned Income Tax Credit (EITC) component. Successful applicants for these 10 grants must also have a history of providing EITC and other asset formation services and training within the Community Services Network. Their curriculum must demonstrate an understanding of asset formation and financial literacy. Applicants must describe in their applications how their proposed training curriculum will improve or expand the access of eligible low-income families and individuals to asset formation information and services. Therefore, projects should include outreach to eligible families, information to help individuals and families understand the EITC and free tax filing assistance to claim the EITC and other tax credits.

Successful applicants for these grants must have a plan for providing EITC outreach, free tax preparation, and other financial and asset formation services and training within the Community Services Network. Their curriculum must demonstrate an understanding of asset formation and financial literacy. At a minimum, all projects funded in this area must present proof that within the collaborative there exists a partner with demonstrated experience in the delivery of EITC outreach and free tax preparation services, and should include a description (letters of agreement or memoranda of understanding) of the nature of the existing or proposed working relationship with the local Internal Revenue Service territory office. Applicants must also describe in their applications how their proposed plan and training curriculum will improve or expand the access of eligible low-income families and individuals to tax preparation and asset formation information and services beyond the scope of the current offerings, as well as identifying constituencies who have been underserved with these programs.

Successful applicants will propose projects that will impact more than one local CSBG service area. This Sub-Priority Area is not appropriate for projects proposing stand-alone services that impact and target only one particular community. Formal State CSBG Lead Agencies and State CAA Association partnerships and Community Service Network collaborations that address the needs of rural communities are especially encouraged to apply for these funds and will receive priority consideration for funding.

The application must clearly show the roles and responsibilities of each collaborating partner. Letters of agreement and memoranda of understanding on agency letterhead with signatures from persons authorized to act on behalf of the collaborating partner(s) must be included in the application.

Innovation is encouraged. However, the following are examples of asset formation and financial literacy activities that OSC seeks to expand:

• Help eligible former Temporary Assistance for Needy Families (TANF) clients (closed cases for 2004) with earnings in a tax year apply for and receive, the Federal and State, where appropriate, Earned Income Tax Credits and other cash benefits or services to which they are entitled.

• Ensure that staff and volunteers of local CSBG funded organizations and/or their partners are trained and certified to provide free tax preparation services.

• Recruit, support, and retain qualified volunteers committed to the goals of the initiative.

• Facilitate outreach to TANF clients through hiring staff or training volunteers responsible for specific outreach to this community. TANF client outreach should include education on the EITC, filing requirements, and information provided about available free income tax services offered by the agency and/or available in the community. Former TANF clients should be scheduled for a free income tax filing appointment.

• Provide life skills education that helps low-income individuals and families learn and apply effective household management and budgeting techniques.

• Help clients establish and use banking and financial services, such as checking and savings accounts, thereby reducing or eliminating their reliance on the high-fee, high interest check cashing and loan services that are prevalent and widely used in low-income neighborhoods.

• Present materials in different languages based on the needs of eligible households.

• Assist families and individuals to boost savings in Individual Development Accounts (IDAs) and/or to participate in other asset-building opportunities such as pre-purchase and post-purchase housing support, 529 college savings plans, and other asset tools.

II. Award Information

Funding Instrument Type: Grant.

Anticipated Total Priority Area Funding: $500,000.

Anticipated Number of Awards: 10.

Ceiling of Individual Awards per Budget Period: $50,000.

Floor on amount of individual awards: None.

Average Projected Award Amount per Budget Period: $50,000.

Length of Project Periods: 36 month project with three 12 month budget periods.

This announcement is inviting applications for project periods of up to three years. Awards, offered on a competitive basis, will be for a one-year budget period, although projects may be for three years. Applications for continuation grants beyond the one-year budget period, but within the three-year project period, will be entertained in subsequent years on a noncompetitive basis, subject to availability of funds, satisfactory progress of the grantee, and a determination that continued funding would be in the best interest of the Federal Government.

Note: The FY 2006 President's Budget does not include or propose funding for the CSBG program.

III. Eligibility Information

1. Eligible Applicants

Non-profit organizations having a 501(c)(3) status with the IRS, other than institutions of higher education.

Non-profit organizations that do not have a 501(c)(3) status with the IRS, other than institutions of higher education;

Others (see Additional Information on Eligibility below).

Additional Information on Eligibility: Community Services Block Grant eligible entities and State Community Action Associations.

As prescribed by the Community Services Block Grant Act, as amended (Pub. L. 105-285, Section 678A(c)(2)), eligible applicants are eligible entities, or statewide or local organizations, or associations with demonstrated expertise in providing training to individuals and organizations on methods of effectively addressing the needs of low-income families and communities. Faith-based and community organizations meeting these requirements are eligible to apply.

2. Cost Sharing/Matching

None.

3. Other

All Applicants must have a Dun & Bradstreet Number.

On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.grants.gov/). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com/.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrues to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be eligible for funding under this announcement.

Any application that fails to satisfy the deadline requirements referenced in Section IV.3 will be considered non-responsive and will not be considered for funding under this announcement.

IV. Application and Submission Information

1. Address to Request Application Package

ATTN: Dr. Margaret Washnitzer, Office of Community Services Operations Center, 1515 Wilson Blvd., Suite 100, Arlington, VA 22209, Phone: 800-281-9519. E-mail: OCS@lcgnet.com.

2. Content and Form of Application Submission

You may submit your application to us in either electronic or paper format.

To submit an application electronically, please use the www.Grants.gov site. If you use Grants.gov, you will be able to download a copy of the application package, complete it off-line, and then upload and submit the application via the Grants.gov site. ACF will not accept grant applications via e-mail or facsimile transmission.

Please note the following if you plan to submit your application electronically via Grants.gov

• Electronic submission is voluntary, but strongly encouraged.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.grants.gov/.

• You must search for the downloadable application package by the CFDA number.

An original and two copies of the complete application are required. The original and each of the two copies must include all required forms, certifications, assurances, and appendices, be signed by an authorized representative, have original signatures, and be submitted unbound. Applicants have the option of omitting from the application copies (not the original) specific salary rates or amounts for individuals specified in the application budget and Social Security Numbers. The copies may include summary salary information.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1 for instructions on preparing the full project description.

3. Submission Dates and Times

Explanation of Due Dates

The closing time and date for receipt of applications is referenced above. Mailed or hand carried applications received after 4:30 p.m. eastern time on the closing date will be classified as late.

Deadline: Mailed applications shall be considered as meeting an announced deadline if they are received on or before the deadline time and date referenced in Section IV.6. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays). Applicants are cautioned that express/overnight mail services do not always deliver as agreed.

ACF cannot accommodate transmission of applications by fax. Therefore, applications transmitted to ACF by fax will not be accepted regardless of date or time of submission and time of receipt.

Receipt acknowledgement for application packages will not be provided to applicants who submit their package via mail, courier services, or by hand delivery. However, applicants will receive an electronic acknowledgement for applications that are submitted via Grants.gov.

Late applications: Applications which do not meet the criteria above are considered late applications. ACF shall notify each late applicant that its application will not be considered in the current competition.

Any application received after 4:30 p.m. on the deadline date will not be considered for competition. Applicants using express/overnight mail services should allow two working days prior to the deadline date for receipt of applications. (Applicants are cautioned that express/overnight mail services do not always deliver as agreed).

Extension of deadlines: ACF may extend application deadlines when circumstances such as acts of God (floods, hurricanes, etc.) occur, or when there are widespread disruptions of mail service, or in other rare cases. A determination to extend or waive deadline requirements rests with the Chief Grants Management Officer.

Checklist: You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF 424 | See Section IV.2 | Found in http://www.acf.hhs.gov/programs/ofs/forms.htm | By application due date.
SF-LLL Certification Regarding Lobbying | See Section IV.2 | Found in http://www.acf.hhs.gov/programs/ofs/forms.htm | By application due date.
Certification Regarding Environmental Tobacco Smoke | See Section IV.2 | Found in http://www.acf.hhs.gov/programs/ofs/forms.htm | By application due date.
Assurances | See Section IV.2 | Found in Section IV.2 | By application due date.
Table of Contents | See Section V.1 | Found in Section V.1 | By application due date.
SF-424A | See Section IV.2 | Found in http://www.acf.hhs.gov/programs/ofs/forms.htm | By application due date.
Proof of Non-Profit Status | See Section III.3 | Found in Section III.3 | By application due date.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | Found in http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

When comments are submitted directly to ACF, they should be addressed to: Department of Health and Human Services, Administration for Children and Families, Division of Discretionary Grants, 370 L'Enfant Promenade, SW., Washington, DC 20447.

Although the remaining jurisdictions have chosen not to participate in the process, entities that meet the eligibility requirements of the program are still eligible to apply for a grant even if a State, Territory, Commonwealth, etc., does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

A list of Single Points of Contact for each State and Territory is included with the application materials for this announcement.

5. Funding Restrictions

Grant awards will not allow reimbursement of pre-award costs.

Sub-Contracting or Delegating Projects

OCS will not fund any project where the role of the applicant is primarily to serve as a conduit for funds to organizations other than the applicant. The applicant must have a substantive role in the implementation of the project for which funding is requested. This prohibition does not bar the making of sub-grants or sub-contracting for specific services or activities that are needed to conduct the project.

Number of Projects in Application

Each application may include only one proposed project. An application that exceeds the upper value of the dollar range specified will be considered non-responsive.

6. Other Submission Requirements

Submission by Mail: An Application must provide an original application with all attachments, signed by an authorized representative and two copies. The Application must be received at the address below by 4:30 p.m. eastern time on or before the closing date. Applications should be mailed to: U.S. Department of Health and Human Services, Administration for Children and Families, Office of Community Services Operations Center, 1515 Wilson Blvd., Suite 100, Arlington, VA 22209, Attention: Barbara Ziegler Johnson.

Hand Delivery: An Applicant must provide an original application with all attachments signed by an authorized representative and two copies. The application must be received at the address below by 4:30 p.m. eastern time on or before the closing date.

Applications that are hand delivered will be accepted between the hours of 8 a.m. to 4:30 p.m., Monday through Friday. Applications may be delivered to: U.S. Department of Health and Human Services (HHS), Administration for Children and Families, Office of Community Services Operations Center, 1515 Wilson Blvd., Suite 100, Arlington, VA 22209, “Attention: Barbara Ziegler Johnson”.

Electronic Submission: http://www.Grants.gov. Please see Section IV. 2 for guidelines and requirements when submitting applications electronically.

V. Application Review Information

The Paperwork Reduction Act of 1995 (Pub. L. 104-13)

Public reporting burden for this collection of information is estimated to average 25 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

For example, describe the population to be served by the program and the number of new jobs that will be targeted to the target population. Explain how the project will reach the targeted population and how it will benefit participants, including, how it will support individuals to become more economically self-sufficient.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished.

When accomplishments cannot be quantified by activity or function, list them in chronological order to show the schedule of accomplishments and their target dates. If any data is to be collected, maintained, and/or disseminated, clearance may be required from the U.S. Office of Management and Budget (OMB). This clearance pertains to any “collection of information that is conducted or sponsored by ACF.” List organizations, cooperating entities, consultants, or other key individuals who will work on the project along with a short description of the nature of their effort or contribution.

Account for all functions or activities identified in the application, such as, free tax preparation, financial literacy training, and asset-building activities. When accomplishments cannot be quantified by activity or function, list them in chronological order to show the schedule of accomplishments and their target dates. If any data is to be collected, maintained, and/or disseminated, clearance may be required from the U.S. Office of Management and Budget (OMB). This clearance pertains to any “collection of information that is conducted or sponsored by ACF.” List organizations, cooperating entities, consultants, or other key individuals who will work on the project, along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application. The non-profit agency can accomplish this by providing: (a) A reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; (e) any of the items immediately above for a State or national parent organization and a statement signed by the parent organization that the applicant organization is a local non-profit affiliate.

Letters of Support

Provide statements from community, public and commercial leaders that support the project proposed for funding. All submissions should be included in the application or by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424. Provide a narrative budget justification that describes how the categorical costs are derived. Discuss the necessity, reasonableness, and allocability of the proposed costs.

Evaluation Criteria

In considering how applicants will carry out the responsibilities addressed under this announcement, competing applications for financial assistance will be reviewed and evaluated against the following criteria:

Approach (40 Points)

Factors:

(1) The work program is results-oriented, approximately related to the legislative mandate and specifically related to the priority area under which funds are being requested. The application addresses the following: specific outcomes to be achieved; discussion of how the project will verify the achievement of these targets and the data collection methodology to be used; the way that tax preparation training will be accomplished; individuals, families and households served; proposed linkage and outcomes to asset-building activities; critical milestones which must be achieved if results are to be gained; organizational support, the level of support from the applicant organization; past performance in similar work; and specific resources contributed to the project that are critical to success.

(2) The applicant defines the comprehensive nature of the project and methods that will be used to ensure that the results can be used to address a statewide or nationwide project as defined by the description of the particular priority area.

Organizational Profiles (20 Points)

Factors:

(1) The applicant demonstrates that it has experience and a successful record of accomplishment relevant to the specific activities it proposes to accomplish.

(2) If the applicant proposes to provide training and technical assistance, it details its abilities to provide those services on a community services network-wide basis. If applicable, information provided by the applicant also addresses related achievements and competence of each cooperating or sponsoring organization.

(3) The application fully describes, for example in a resume, the experience and skills of the proposed project director and primary staff showing specific qualifications and professional experiences relevant to the successful implementation of the proposed project.

(4) The applicant describes how it will involve partners in the Community Services Network, the Internal Revenue Service, and other asset-building projects including the Assets for Independence Act (AFIA) grantees in its activities. Where appropriate, applicant describes how it will interface with other related organizations.

(5) The application describes how the needs of rural communities and small towns will be addressed.

(6) If sub-contracts are proposed, the application documents the willingness and capacity of the subcontracting organization(s) to participate as described.

Objectives and Need for Assistance (20 Points)

Factors:

(1) The applicant documents that the proposed project addresses vital needs related to the program purposes and provides statistics and other data and information in support of its contention.

(2) The application provides current supporting documentation or other testimonies regarding needs from State CSBG Directors, CAAs and local service providers and/or State and Regional organizations of CAAs and other local service providers, including the Internal Revenue Service.

Results or Benefits Expected (15 Points)

Factors:

(1) The application describes how the project will assure long-term program and management improvements for State CSBG offices, CAA State and/or regional associations, CAAs and/or other local providers of CSBG services and activities.

(2) The applicant indicates the types and amounts of public and/or private resources it will mobilize, how those resources will directly benefit the project, and how the project will ultimately benefit low-income individuals and families.

(3) If the application proposes a project with a training and technical assistance focus, the application indicates the number of organizations and/or staff that will benefit from those services.

(4) The application describes a project with data collection focus, the application describes the mechanism to be used to collect data about EITC outreach, returns prepared, total EITC claimed, the number of individuals and families engaged in financial literacy and/or asset formation strategies and, how the applicant can assure collections from a significant number of State partners, and the number of State partners willing to submit data to the applicant.

(5) If the applicant proposes to develop a symposium series or other policy-related project(s), the application identifies the number and types of beneficiaries.

(6) The application describes methods of securing participant feedback and evaluations of activities.

Budget and Budget Justification (5 Points)

Factors:

(1) The resources requested are reasonable and adequate to accomplish the project.

(2) Total costs are reasonable and consistent with anticipated results.

2. Review and Selection Process

No grant award will be made under this announcement on the basis of an incomplete application. ACF will be using non-Federal reviewers in the review process, applicants have the option of omitting from the application copies (not the original) specific salary rates or amounts for individuals specified in the application budget and Social Security Numbers, if otherwise required for individuals. The copies may include summary salary information.

Initial OCS Screening

Each application submitted to OCS will be screened to determine whether it was received by the closing date and time.

Applications received by the closing date and time will be screened for completeness and conformity with the following requirements.

All applications must comply with the following requirements except as noted:

OCS Evaluation of Applications

Applications that pass the initial OCS screening will be reviewed and rated by a panel based on the program elements and review criteria presented in relevant sections of this program announcement.

The review criteria are designed to enable the review panel to assess the quality of a proposed project and determine the likelihood of its success. The criteria are closely related to each other and are considered as a whole in judging the overall quality of an application. The review panel awards points only to applications that are responsive to the program elements and relevant review criteria within the context of this program announcement.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements of 45 CFR part 74 (non-governmental) or 45 CFR part 92 (governmental) as well as 45 CFR part 1050.

Direct Federal grants, sub-award funds, or contracts under this announcement shall not be used to support inherently religious activities such as religious instruction, worship, or proselytization. Therefore, organizations must take steps to separate, in time or location, their inherently religious activities from the services funded under this Program. Regulations pertaining to the Charitable Choice Provisions Applicable to Programs Authorized under the Community Services Block Grant Act can be found at either 45 CFR part 1050 or the HHS Web site at http://www.hhs.gov/fbci/finalCSBG_ccregs.pdf. These provisions set forth certain requirements to ensure that religious organizations are able to compete on an equal footing for funds.

3. Reporting Requirements

Program Progress Reports: Semi-Annually.

Financial Reports: Semi-Annually.

Grantees will be required to submit program progress and financial reports (SF 269) throughout the project period, as well as a final program and financial report 90 days after the end of the project period. Program progress and financial reports are due 30 days after the reporting period.

VII. Agency Contacts

Program Office Contact

Dr. Margaret Washnitzer, Department of Health and Human Services (HHS), Office of Community Services Operations Center, 1515 Wilson Blvd., Suite 100, Arlington, VA 22209. Phone: 1-800-281-9519. E-mail: OCS@lcgnet.com.

Grants Management Office Contact

Barbara Ziegler-Johnson, Grants Management Officer, Office of Grants Management, Division of Discretionary Grant, Administration for Children and Families, Office of Community Services Operations Center, 1515 Wilson Blvd., Suite 100, Arlington, VA 22209. E-mail: OCS@lcgnet.com.

VIII. Other Information

Notice: Beginning with FY 2006, the Administration for Children and Families (ACF) will no longer publish grant announcements in the Federal Register. Beginning October 1, 2005, applicants will be able to find a synopsis of all ACF grant opportunities and apply electronically for opportunities via: http://www.Grants.gov. Applicants will also be able to find the complete text of all ACF grant announcements on the ACF Web site located at: http://www.acf.hhs.gov/grants/index.html.

The FY 2006 President's Budget does not include or propose funding for the Community Services Block Grant Program.

Additional information about this program and its purpose can be located on the following Web site: http://www.acf.hhs.gov/programs/ocs.

Dated: April 29, 2005.
Josephine B. Robinson,
Director, Office of Community Services.

[FR Doc. 05-9123 Filed 5-5-05; 8:45 am]

BILLING CODE 4184-01-P